DEPARTMENT OF COMMERCE

National Oceanic and Atmospheric Administration

50 CFR Part 300

[Docket No. 060111007-6007-01; I.D. 010906A]

RIN 0648-AT56

Pacific Halibut Fisheries; Catch Sharing Plan

AGENCY: National Marine Fisheries Service (NMFS), National Oceanic and Atmospheric Administration (NOAA), Commerce.

ACTION: Proposed rule.

SUMMARY: NMFS proposes to approve and implement changes to the Pacific Halibut Catch Sharing Plan (Plan) for the International Pacific Halibut Commission′s (IPHC or Commission) regulatory Area 2A off Washington, Oregon, and California (Area 2A). NMFS proposes to update the tribal season in the Plan to reflect recent IPHC season date-setting trends. NMFS also proposes to implement the portions of the Plan and management measures that are not implemented through the IPHC, which includes the sport fishery management measures for Area 2A, the flexible inseason management provisions in Area 2A, fishery election in Area 2A, and Area 2A non-treaty commercial fishery closed areas. NMFS proposes to codify all but the sport fishery management measures for Area 2A, at 50 CFR part 300, subpart E. These actions are intended to enhance the conservation of Pacific halibut, to protect yelloweye rockfish and other overfished groundfish species from incidental catch in the halibut fisheries, and to provide greater angler opportunity where available.

DATES: Comments on the proposed changes to the Plan and on the proposed domestic Area 2A halibut management measures must be received no later than 5 p.m., local time on February 14, 2006.

ADDRESSES: Copies of the Plan, Regulatory Impact Review (RIR)/Initial Regulatory Flexibility Analysis (IRFA), and/or Categorical Exclusion (CE) are available from D. Robert Lohn, Regional Administrator, Northwest Region, NMFS, 7600 Sand Point Way NE., Seattle, WA 98115-0070. Electronic copies of the Plan, including proposed changes for 2006, and of the CE and draft RIR/IRFA are also available at the NMFS Northwest Region Web site: http://www.nwr.noaa.gov, click on “Groundfish & Halibut.”

You may submit comments on the proposed Plan and domestic Area 2A halibut management measures or supporting documents, identified by 010906A, by any of the following methods:

• E-mail: PHalibut2006.nwr@noaa.gov. Include the I.D. number

010906A in the subject line of the message.

• Federal eRulemaking Portal: http://www.regulations.gov. Follow the instructions for submitting comments.

• Mail: D. Robert Lohn, Administrator, Northwest Region,

NMFS, Attn: Jamie Goen, 7600 Sand Point Way NE., Seattle, WA 98115-0070.

• Fax: 206-526-6736, Attn: Jamie Goen.

FOR FURTHER INFORMATION CONTACT: Jamie Goen or Yvonne deReynier (Northwest Region, NMFS), phone: 206-526-6150, fax: 206-526-6736 or e-mail: jamie.goen@noaa.gov or yvonne.dereynier@noaa.gov.

SUPPLEMENTARY INFORMATION: The Northern Pacific Halibut Act (Halibut Act) of 1982, at 16 U.S.C. 773c, gives the Secretary of Commerce (Secretary) general responsibility for implementing the provisions of the Halibut Convention between the United States and Canada (Halibut Convention). It requires the Secretary to adopt regulations as may be necessary to carry out the purposes and objectives of the Halibut Convention and the Halibut Act. Section 773c of the Halibut Act authorizes the regional fishery management councils to develop regulations governing the Pacific halibut catch in their corresponding U.S. Convention waters that are in addition to, but not in conflict with, regulations of the IPHC. Each year between 1988 and 1995, the Pacific Fishery Management Council (Pacific Council) had developed a catch sharing plan in accordance with the Halibut Act to allocate the total allowable catch (TAC) of Pacific halibut between treaty Indian and non-treaty harvesters and among non-treaty commercial and sport fisheries in Area 2A.

In 1995, NMFS implemented the Pacific Council-recommended long-term Plan (60 FR 14651, March 20, 1995). In each of the intervening years between 1995 and the present, minor revisions to the Plan have been made to adjust for the changing needs of the fisheries. The Plan allocates 35 percent of the Area 2A TAC plus 25,000 lb (11.3 mt) to Washington treaty Indian tribes in Subarea 2A-1 and 65 percent minus 25,000 lb (11.3 mt) to non-Indian fisheries in Area 2A. The allocation to non-Indian fisheries is divided into three shares, with the Washington sport fishery (north of the Columbia River) receiving 36.6 percent, the Oregon/California sport fishery receiving 31.7 percent, and the commercial fishery receiving 31.7 percent. The commercial fishery is further divided into a directed commercial fishery that is allocated 85 percent of the commercial allocation and an incidental catch in the salmon troll fishery that is allocated 15 percent of the commercial allocation. The directed commercial fishery in Area 2A is confined to southern Washington (south of 46°53.30′ N. lat.), Oregon, and California. North of 46°53.30′ N. lat. (Pt. Chehalis), the Plan allows for incidental halibut retention in the primary limited entry longline sablefish fishery when the overall Area 2A TAC is above 900,000 lb (408.2 mt). The Plan also divides the sport fisheries into seven geographic subareas, each with separate allocations, seasons, and bag limits.

The Area 2A TAC will be set by the IPHC at its annual meeting on January 16-20, 2006, in Bellevue, WA. NMFS requests public comments on the Pacific Council′s recommended modifications to the Plan and the proposed domestic fishing regulations by February 14, 2006. This allows the public the opportunity to consider the final Area 2A TAC before submitting comments on the proposed rule. The States of Washington and Oregon will conduct public workshops shortly after the IPHC meeting to obtain input on the sport season dates. After the Area 2A TAC is known and after NMFS reviews public comments and comments from the states, NMFS will issue a final rule for the Area 2A Pacific halibut fisheries concurrent with the IPHC regulations for the 2006 Pacific halibut fisheries.

Pacific Council Recommended Changes to the Plan and Domestic Fishing Regulations

Each year, the states (Washington Department of Fish and Wildlife (WDFW) and Oregon Department of Fish and Wildlife (ODFW)) and tribes consider whether changes to the Plan are needed or desired by their fishery participants. Fishery managers from the states hold public meetings before both the September and November Pacific Council meetings to get public input on revisions to the Plan. At the September 2005 Pacific Council meeting, the states recommended several changes to the Plan and the tribes announced that they had no proposal for revising the Plan in 2006. Following the meeting, the states again reviewed their proposals with the public and drafted their recommended revisions for review by the Pacific Council.

At its October 30-November 4, 2005, meeting in San Diego, CA, the Pacific Council considered the results of state-sponsored workshops on the proposed changes to the Plan and public comments, and made the final recommendations for modifications to the Plan as follows:

(1) For the Oregon Central Coast all-depth recreational summer fishery, allow an increase in the daily bag limit to two fish after Labor Day subsequent to consultation with the IPHC, NMFS, and ODFW.

(2) Increase the Oregon possession limit on land from two daily limits to three daily limits statewide.

(3) For the Columbia River subarea, increase the allocation to this subarea from Oregon to 5.0 percent of the Oregon/California sport allocation. The Washington contribution is unchanged. The season will be split with the early season given 70 percent of the subarea allocation, open seven days per week, beginning May 1 through the earlier of the early season quota or the third Sunday in July. Any remaining quota will be added to the remaining 30 percent of the subarea quota for the late season, which will be open Friday through Sunday beginning the first Friday in August through the earlier of the overall subarea quota or September 30. If there is insufficient quota for another day of fishing in the Columbia River subarea, any remaining quota may be transferred to another Oregon and/or Washington subarea in proportion to the state′s contribution.

(4) For the Columbia River subarea, prohibit retention of groundfish with a halibut on board, except sablefish or Pacific cod when allowed under groundfish regulations.

(5) For the Washington South Coast subarea, remove the reference to the automatic seven days per week season beginning July 1, and specify that the northern nearshore area will reopen to accommodate incidental halibut catch on Fridays and Saturdays only.

(6) For the Washington South Coast subarea, modify the definition of the northern nearshore area to: from 47°25.00′ N. lat. south to 46°58.00′ N. lat., and east of 124°30.00′ W. long.

(7) For the Washington North Coast subarea May fishery, reduce the number of days open per week from five consecutive days (Tuesday through Saturday) to three staggered days (Tuesday, Thursday, and Saturday); for the June fishery, reduce the number of days open from five days to two staggered days (Thursday and Saturday).

(8) For the Washington North Coast subarea June fishery, specify the opening date as the first Thursday after June 17.

Proposed Changes to the Plan

In addition to the Pacific Council′s recommendations, NMFS proposes to update the tribal season in the Catch Sharing Plan to reflect season dates adopted by the IPHC. NMFS is proposing to approve the Pacific Council recommendations and to implement the above-described changes by making the following changes to the Plan:

In section (d) of the Plan, Treaty Indian Fisheries, revise the first sentence of paragraph (2) to read as follows:

The tribal commercial fishery season dates will be set within the season dates determined by the IPHC and implemented in IPHC regulations. The tribal commercial fishery will close when the subquota is taken.

In section (f) of the Plan, Sport Fisheries, revise the fifth and sixth sentences of paragraph (1)(ii) to read as follows:

The fishery will open on the first Tuesday between May 9 and 15, and continue 3 days per week (Tuesday, Thursday, and Saturday) until the May allocation is projected to be taken. The fishery will then reopen in June on the first Thursday following June 17, and continue until the remaining quota is projected to be taken, 2 days per week (Thursday and Saturday.)

In section (f) of the Plan, Sport Fisheries, revise the sixth sentence of paragraph (1)(iii) to read as follows:

The fishery will be open Sunday through Thursday in all areas, except where prohibited, and the fishery will be open 7 days per week in the area from 47°25.00′ N. lat. south to 46°58.00′ N. lat. and east of 124°30.00′ W. long.

In section (f) of the Plan, Sport Fisheries, revise the eighth sentence of paragraph (1)(iii) to read as follows:

Subsequent to this closure, if there is insufficient quota remaining to reopen the entire subarea for another fishing day, then any remaining quota may be used to accommodate incidental catch in the nearshore area from 47°25.00′ N. lat. south to 46°58.00′ N. lat. and east of 124°30.00′ W. long. on Fridays and Saturdays only, or be transferred inseason to another Washington coastal subarea by NMFS via an update to the recreational halibut hotline.

In section (f) of the Plan, Sport Fisheries, revise paragraph (1)(iv) to read as follows:

This sport fishery subarea is allocated 2.0 percent of the first 130,845 lb (59.4 mt) allocated to the Washington sport fishery, and 4.0 percent of the Washington sport allocation between 130,845 lb (59.4 mt) and 224,110 lb (101.7 mt) (except as provided in section (e)(3) of this Plan). This subarea is also allocated 5.0 percent of the Oregon/California sport allocation or an amount equal to the contribution from the Washington sport allocation, whichever is greater. This subarea is defined as waters south of Leadbetter Point, WA (46°38.17′ N. lat.) and north of Cape Falcon, OR (45°46.00′ N. lat.). The fishery will open on May 1, and continue 7 days per week until 70 percent of the subarea allocation is taken or until the third Sunday in July, whichever is earlier. The fishery will reopen on the first Friday in August and continue 3 days per week, Friday through Sunday until the remainder of the subarea quota has been taken, or until September 30, whichever is earlier. Subsequent to this closure, if there is insufficient quota remaining in the Columbia River subarea for another fishing day, then any remaining quota may be transferred inseason to another Washington and/or Oregon subarea by NMFS via an update to the recreational halibut hotline. Any remaining quota would be transferred to each state in proportion to its contribution. The daily bag limit is one halibut per person, with no size limit. No groundfish may be taken and retained, possessed or landed, except sablefish and Pacific cod when allowed by groundfish regulations, if halibut are on board the vessel.

In section (f) of the Plan, Sport Fisheries, revise paragraph (1)(v) to read as follows:

This subarea extends from Cape Falcon (45°46.00′ N. lat.) to Humbug Mountain, Oregon (42°40.50′ N. lat.) and is allocated 92.0 percent of the Oregon/California sport allocation minus any amount of pounds needed to contribute to the Oregon portion of the Columbia River subarea quota. The structuring objectives for this subarea are to provide two periods of fishing opportunity in spring and in summer in productive deeper water areas along the coast, principally for charterboat and larger private boat anglers, and provide a period of fishing opportunity in the summer for nearshore waters for small boat anglers. Any poundage remaining unharvested in the spring all-depth subquota will be added to the summer all-depth sub-quota. Any poundage that is not needed to extend the inside 40-fm (73-m) fishery through October 31 will be added to the summer all-depth season if it can be used, and any poundage remaining unharvested from the summer all-depth fishery will be added to the inside 40-fm (73-m) fishery subquota, if it can be used. If inseason it is determined via joint consultation between IPHC, NMFS and ODFW, that the combined all-depth and inside 40-fm (73-m) fisheries will not harvest the entire quota to the subarea, quota may be transferred inseason to another subarea south of Leadbetter Point, WA by NMFS via an update to the recreational halibut hotline. The daily bag limit is one halibut per person, unless otherwise specified, with no size limit. During days open to all-depth halibut fishing, no groundfish may be taken and retained, possessed or landed, except sablefish when allowed by groundfish regulations, if halibut are on board the vessel. A yelloweye rockfish conservation area that is closed to recreational halibut fishing is defined by the following coordinates in the order listed:

(1) 44°37.46′ N. lat.; 124°24.92′ W. long.;

(2) 44°37.46′ N. lat.; 124°23.63′ W. long.;

(3) 44°28.71′ N. lat.; 124°21.80′ W. long.;

(4) 44°28.71′ N. lat.; 124°24.10′ W. long.;

(5) 44°31.42′ N. lat.; 124°25.47′ W. long.;

and connecting back to 44°37.46 N. lat.; 124°24.92′ W. long.

ODFW will sponsor a public workshop shortly after the IPHC annual meeting to develop recommendations to NMFS on the open dates for each season each year. The three seasons for this subarea are as follows.

A. The first season opens on May 1, only in waters inside the 40-fm (73-m) curve, and continues daily until the subquota (8 percent of the subarea quota) is taken, or until October 31, whichever is earlier. Any overage in the all-depth fisheries would not affect achievement of allocation set aside for the inside 40-fm (73-m) curve fishery.

B. The second season is an all-depth fishery with two potential openings and is allocated 69 percent of the subarea quota. Fixed season dates will be established preseason for the first spring opening and will not be modified inseason except if the combined Oregon all-depth spring and summer season total quotas are estimated to be achieved. Recent year catch rates will be used as a guideline for estimating the catch rate for the spring fishery each year. The number of fixed season days established will be based on the projected catch per day with the intent of not exceeding the subarea subquota for this season. The first opening will be structured for 2 days per week (Friday and Saturday) if the season is for 4 or fewer fishing days. The fishery will be structured for 3 days per week (Thursday through Saturday) if the season is for 5 or more fishing days. The fixed season dates will occur in consecutive weeks starting the second Thursday in May (if the season is 5 or more fishing days) or second Friday in May (if the season is 4 or fewer fishing days), with possible exceptions to avoid adverse tidal conditions. If, following the “fixed” dates, quota for this season remains unharvested, a second opening will be held. If it is determined appropriate through joint consultation between IPHC, NMFS and ODFW, fishing may be allowed on one or more additional days. Notice of the opening(s) will be announced by NMFS via an update to the recreational halibut hotline. The fishery will be open every other week on Thursday through Saturday except that week(s) may be skipped to avoid adverse tidal conditions. The potential open Thursdays through Saturdays will be identified preseason. The fishery will continue until there is insufficient quota for an additional day of fishing or July 31, whichever is earlier.

C. The last season is an all-depth fishery that begins on the first Friday in August and is allocated 23 percent of the subarea quota. The fishery will be structured to be open every other week on Friday through Sunday except that week(s) may be skipped to avoid adverse tidal conditions. The fishery will continue until there is insufficient quota remaining to reopen for another fishing day or October 31, whichever is earlier. The potential open Fridays through Sundays will be identified preseason. If after the first scheduled open period, the remaining Cape Falcon to Humbug Mountain entire season quota (combined all-depth and inside 40-fm (73-m) quotas) is 60,000 lb (27.2 mt) or more, the fishery will re-open on every Friday through Sunday (versus every other Friday through Sunday), if determined to be appropriate through joint consultation between IPHC, NMFS, and ODFW. The inseason action will be announced by NMFS via an update to the recreational halibut hotline. If after the Labor Day weekend, the remaining Cape Falcon to Humbug Mountain entire season quota (combined all-depth and inside 40-fm (73-m) quotas) is 30,000 lb (13.6 mt) or more and the fishery is not already open every Friday through Sunday, the fishery will re-open on every Friday through Sunday (versus every other Friday through Sunday), if determined to be appropriate through joint consultation between IPHC, NMFS, and ODFW. After the Labor Day weekend, the IPHC, NMFS, and ODFW will consult to determine whether increasing the Oregon Central Coast bag limit to two fish is warranted with the intent that the quota for the subarea is taken by September 30. If the quota is not taken by September 30, the season will remain open, maintaining the bag limit in effect at that time, through October 31 or quota attainment, whichever is earlier. The inseason action will be announced by NMFS via an update to the recreational halibut hotline.

In section (f) of the Plan, Sport Fisheries, revise paragraph (3) to read as follows:

Possession limits. The sport possession limit on land in Washington and California is two daily bag limits, regardless of condition, but only one daily bag limit may be possessed on the vessel. The sport possession limit on land in Oregon is three daily bag limits, regardless of condition, but only one daily bag limit may be possessed on the vessel.

Proposed 2006 Sport Fishery Management Measures

NMFS is proposing sport fishery management measures that are necessary to implement the Plan in 2006. The 2006 TAC for Area 2A will be determined by the IPHC at its annual meeting on January 16-20, 2006, in Bellevue, WA. Because the 2006 TAC has not yet been determined, these proposed sport fishery management measures use the IPHC′s preliminary 2006 Area 2A TAC recommendation of 1,380,000 lb (626 mt), which is higher than the 2005 TAC of 1,330,000 lb (603 mt). The proposed 2006 sport fishery regulations are based on the preliminary 2006 Area 2A TAC of 1,380,000 lb (626 mt). Where season dates are not indicated, those dates will be provided in the final rule, following determination of the 2006 TAC and consultation with the states and the public. In Section 24 of the annual domestic management measures, “Sport Fishing for Halibut,” paragraph (4)(b) is proposed to read as follows:

* * * * *

(4)* * *

(b) The sport fishing subareas, subquotas, fishing dates, and daily bag limits are as follows, except as modified under the inseason actions in § 300.63 (c). All sport fishing in Area 2A is managed on a “port of landing” basis, whereby any halibut landed into a port counts toward the quota for the area in which that port is located, and the regulations governing the area of landing apply, regardless of the specific area of catch.

(i) In Puget Sound and the U.S. waters in the Strait of Juan de Fuca, east of a line extending from 48°17.30′ N. lat., 124°23.70′ W. long. north to 48°24.10′ N. lat., 124°23.70′ W. long., there is no quota. This area is managed by setting a season that is projected to result in a catch of 68,607 lb (31 mt).

(A) The fishing season in eastern Puget Sound (east of 123°49.50′ W. long., Low Point) is (insert season dates) and the fishing season in western Puget Sound (west of 123°49.50′ W. long., Low Point) is (insert season dates), 5 days a week (Thursday through Monday). (The final determination of the season dates would be based on the allowable harvest level and projected 2006 catch rates after the 2006 TAC is set by the IPHC.)

(B)The daily bag limit is one halibut of any size per day per person.

(ii) The quota for landings into ports in the area off the north Washington coast, west of the line described in paragraph (4)(b)(i) of this section and north of the Queets River (47°31.70′ N. lat.), is 119,244 lb (54 mt).

(A) The fishing seasons are:

(1) Commencing on May 9 and continuing 3 days a week (Tuesday, Thursday, and Saturday) until 85,856 lb (39 mt) are estimated to have been taken and the season is closed by the Commission.

(2) From June 22, and continuing thereafter for 2 days a week (Thursday and Saturday) until the overall quota of 119,244 lb (54 mt) are estimated to have been taken and the area is closed by the Commission, or until September 30, whichever is earlier.

(B) The daily bag limit is one halibut of any size per day per person.

(C) A “C-shaped” yelloweye rockfish conservation area southwest of Cape Flattery is closed to sport fishing for halibut. This area is defined by the following coordinates in the order listed:

(1) 48°18.00′ N. lat.; 125°18.00′ W. long.;

(2) 48°18.00′ N. lat.; 124°59.00′ W. long.;

(3) 48°11.00′ N. lat.; 124°59.00′ W. long.;

(4) 48°11.00′ N. lat.; 125°11.00′ W. long.;

(5) 48°04.00′ N. lat.; 125°11.00′ W. long.;

(6) 48°04.00′ N. lat.; 124°59.00′ W. long.;

(7) 48°00.00′ N. lat.; 124°59.00′ W. long.;

(8) 48°00.00′ N. lat.; 125°18.00′ W. long.;

and connecting back to 48°18.00′ N. lat.; 125°18.00′ W. long.

(iii) The quota for landings into ports in the area between the Queets River, WA (47°31.70′ N. lat.) and Leadbetter Point, WA (46°38.17′ N. lat.), is 53,952 lb (24 mt).

(A) The fishing season commences on May 1 and continues 5 days a week (Sunday through Thursday) in all waters, except that in the area from 47°25.00′ N. lat. south to 46°58.00′ N. lat. and east of 124°30.00′ W. long. (i.e., the Washington South coast, northern nearshore area), the fishing season commences on May 1 and continues 7 days a week. The fishery will continue from May 1 until 53,952 lb (24 mt) are estimated to have been taken and the season is closed by the Commission, or until September 30, whichever is earlier. Subsequent to this closure, if there is insufficient quota remaining to reopen the entire subarea for another fishing day, then any remaining quota may be used to accommodate incidental catch in the nearshore area from 47°25.00′ N. lat. south to 46°58.00′ N. lat. and east of 124°30.00′ W. long. on Fridays and Saturdays only, or be transferred inseason to another Washington coastal subarea by NMFS via an update to the recreational halibut hotline.

(B) The daily bag limit is one halibut of any size per day per person.

(iv) The quota for landings into ports in the area between Leadbetter Point, WA (46°38.17′ N. lat.) and Cape Falcon, OR (45°46.00′ N. lat.), is 21,170 lb (10 mt).

(A) The fishing season commences on May 1, and continues 7 days a week until 14,819 lb (6.7 mt) are estimated to have been taken and the season is closed by the Commission or until July 16, whichever is earlier. The fishery will reopen on August 4 and continue 3 days a week (Friday through Sunday) until 21,170 lb (10 mt) have been taken and the season is closed by the Commission, or until September 30, whichever is earlier. Subsequent to this closure, if there is insufficient quota remaining in the Columbia River subarea for another fishing day, then any remaining quota may be transferred inseason to another Washington and/or Oregon subarea by NMFS via an update to the recreational halibut hotline. Any remaining quota would be transferred to each state in proportion to its contribution.

(B) The daily bag limit is one halibut of any size per day per person.

(C) Pacific Coast groundfish may not be taken and retained, possessed or landed, except sablefish and Pacific cod when allowed by Pacific Coast groundfish regulations, if halibut are on board the vessel.

(v) The quota for landings into ports in the area off Oregon between Cape Falcon (45°46.00′ N. lat.) and Humbug Mountain (42°40.50′ N. lat.), is 254,310 lb (115 mt).

(A) The fishing seasons are:

(1) The first season (the “inside 40-fm” fishery) commences May 1 and continues 7 days a week through October 31, in the area shoreward of a boundary line approximating the 40-fm (73-m) depth contour, or until the sub-quota for the central Oregon “inside 40-fm” fishery (20,345 lb (9.2 mt)) or any inseason revised subquota is estimated to have been taken and the season is closed by the Commission, whichever is earlier. The boundary line approximating the 40-fm (73-m) depth contour between 45°46.00′ N. lat. and 42°40.50′ N. lat. is defined by straight lines connecting all of the following points in the order stated:

(1) 45°46.00′ N. lat., 124°04.49′ W. long.;

(2) 45°44.34′ N. lat., 124°05.09′ W. long.;

(3) 45°40.64′ N. lat., 124°04.90′ W. long.;

(4) 45°33.00′ N. lat., 124°04.46′ W. long.;

(5) 45°32.27′ N. lat., 124°04.74′ W. long.;

(6) 45°29.26′ N. lat., 124°04.22′ W. long.;

(7) 45°20.25′ N. lat., 124°04.67′ W. long.;

(8) 45°19.99′ N. lat., 124°04.62′ W. long.;

(9) 45°17.50′ N. lat., 124°04.91′ W. long.;

(10) 45°11.29′ N. lat., 124°05.19′ W. long.;

(11) 45°05.79′ N. lat., 124°05.40′ W. long.;

(12) 45°05.07′ N. lat., 124°05.93′ W. long.;

(13) 45°03.83′ N. lat., 124°06.47′ W. long.;

(14) 45°01.70′ N. lat., 124°06.53′ W. long.;

(15) 44°58.75′ N. lat., 124°07.14′ W. long.;

(16) 44°51.28′ N. lat., 124°10.21′ W. long.;

(17) 44°49.49′ N. lat., 124°10.89′ W. long.;

(18) 44°44.96′ N. lat., 124°14.39′ W. long.;

(19) 44°43.44′ N. lat., 124°14.78′ W. long.;

(20) 44°42.27′ N. lat., 124°13.81′ W. long.;

(21) 44°41.68′ N. lat., 124°15.38′ W. long.;

(22) 44°34.87′ N. lat., 124°15.80′ W. long.;

(23) 44°33.74′ N. lat., 124°14.43′ W. long.;

(24) 44°27.66′ N. lat., 124°16.99′ W. long.;

(25) 44°19.13′ N. lat., 124°19.22′ W. long.;

(26) 44°15.35′ N. lat., 124°17.37′ W. long.;

(27) 44°14.38′ N. lat., 124°17.78′ W. long.;

(28) 44°12.80′ N. lat., 124°17.18′ W. long.;

(29) 44°09.23′ N. lat., 124°15.96′ W. long.;

(30) 44°08.38′ N. lat., 124°16.80′ W. long.;

(31) 44°08.30′ N. lat., 124°16.75′ W. long.;

(32) 44°01.18′ N. lat., 124°15.42′ W. long.;

(33) 43°51.60′ N. lat., 124°14.68′ W. long.;

(34) 43°42.66′ N. lat., 124°15.46′ W. long.;

(35) 43°40.49′ N. lat., 124°15.74′ W. long.;

(36) 43°38.77′ N. lat., 124°15.64′ W. long.;

(37) 43°34.52′ N. lat., 124°16.73′ W. long.;

(38) 43°28.82′ N. lat., 124°19.52′ W. long.;

(39) 43°23.91′ N. lat., 124°24.28′ W. long.;

(40) 43°20.83′ N. lat., 124°26.63′ W. long.;

(41) 43°17.96′ N. lat., 124°28.81′ W. long.;

(42) 43°16.75′ N. lat., 124°28.42′ W. long.;

(43) 43°13.98′ N. lat., 124°31.99′ W. long.;

(44) 43°13.71′ N. lat., 124°33.25′ W. long.;

(45) 43°12.26′ N. lat., 124°34.16′ W. long.;

(46) 43°10.96′ N. lat., 124°32.34′ W. long.;

(47) 43°05.65′ N. lat., 124°31.52′ W. long.;

(48) 42°59.66′ N. lat., 124°32.58′ W. long.;

(49) 42°54.97′ N. lat., 124°36.99′ W. long.;

(50) 42°53.81′ N. lat., 124°38.58′ W. long.;

(51) 42°50.00′ N. lat., 124°39.68′ W. long.;

(52) 42°49.14′ N. lat., 124°39.92′ W. long.;

(53) 42°46.47′ N. lat., 124°38.65′ W. long.;

(54) 42°45.60′ N. lat., 124°39.04′ W. long.;

(55) 42°44.79′ N. lat., 124°37.96′ W. long.;

(56) 42°45.00′ N. lat., 124°36.39′ W. long.;

(57) 42°44.14′ N. lat., 124°35.16′ W. long.;

(58) 42°42.15′ N. lat., 124°32.82′ W. long.; and

(59) 42°40.50′ N. lat., 124°31.98′ W. long.;

(2) The second season (spring season), which is for the “all-depth” fishery, is open on (insert dates beginning with May 11). The projected catch for this season is 175,474 lb (80 mt). If sufficient unharvested catch remains for additional fishing days, the season will re-open. Dependent on the amount of unharvested catch available, the potential season re-opening dates will be: (insert dates, no later than July 31). If NMFS decides inseason to allow fishing on any of these re-opening dates, notice of the re-opening will be announced on the NMFS hotline (206) 526-6667 or (800) 662-9825. No halibut fishing will be allowed on the re-opening dates unless the date is announced on the NMFS hotline. (The final determination of the season dates would be based on the allowable harvest level and projected 2006 catch rates and on a public meeting held by ODFW after the 2006 TAC is set by the IPHC.)

(3) If sufficient unharvested catch remains, the third season (summer season), which is for the “all-depth” fishery, will be open on (insert dates beginning with August 4), or until the combined spring season and summer season quotas in the area between Cape Falcon and Humbug Mountain, OR, totaling 233,965 lb (106 mt), are estimated to have been taken and the area is closed by the Commission, or October 31, whichever is earlier. NMFS will announce on the NMFS hotline in July whether the fishery will re-open for the summer season in August. No halibut fishing will be allowed in the summer season fishery unless the dates are announced on the NMFS hotline. Additional fishing days may be opened if a certain amount of quota remains after August 6 and September 3. If after August 6, greater than or equal to 60,000 lb (27.2 mt) remains in the combined all-depth and inside 40-fm (73-m) quota, the fishery may re-open every Friday through Sunday, beginning August 11 - 13, and ending October 27 - 29. If after September 3, greater than or equal to 30,000 lb (13.6 mt) remains in the combined all-depth and inside 40-fm (73-m) quota, and the fishery is not already open every Friday through Sunday, the fishery may re-open every Friday through Sunday, beginning September 8 - 10, and ending October 27 - 29 and may have a bag limit of two fish of any size per person, per day. NMFS will announce on the NMFS hotline whether the summer all-depth fishery will be open on such additional fishing days, what days the fishery will be open and what the bag limit is.

(B) The daily bag limit is one halibut of any size per day per person, unless otherwise specified. NMFS will announce on the NMFS hotline any bag limit changes.

(C) During days open to all-depth halibut fishing, no Pacific Coast groundfish may be taken and retained, possessed or landed, except sablefish when allowed by Pacific Coast groundfish regulations, if halibut are on board the vessel.

(D) When the all-depth halibut fishery is closed and halibut fishing is permitted only shoreward of a boundary line approximating the 40-fm (73-m) depth contour, halibut possession and retention by vessels operating seaward of a boundary line approximating the 40-fm (73-m) depth contour is prohibited.

(E) A yelloweye rockfish conservation area off central Oregon is closed to sport fishing for halibut. Notwithstanding Section 24(12) of the annual domestic management measures and IPHC regulations, halibut may be retained onboard recreational fishing vessels trolling for salmon while those vessels are operating within this closed area. This area is defined by the following coordinates in the order listed:

(1) 44°37.46′ N. lat.; 124°24.92′ W. long.;

(2) 44°37.46′ N. lat.; 124°23.63′ W. long.;

(3) 44°28.71′ N. lat.; 124°21.80′ W. long.;

(4) 44°28.71′ N. lat.; 124°24.10′ W. long.;

(5) 44°31.42′ N. lat.; 124°25.47′ W. long.;

(6) and connecting back to 44°37.46′ N. lat.; 124°24.92′ W. long.

(vi) In the area south of Humbug Mountain, Oregon (42°40.50′ N. lat.) and off the California coast, there is no quota. This area is managed on a season that is projected to result in a catch of 8,293 lb (3.8 mt).

(A) The fishing season will commence on May 1 and continue 7 days a week until October 31.

(B) The daily bag limit is one halibut of any size per day per person.

Flexible Inseason Management Provisions for Sport Halibut Fisheries in Area 2A

The flexible inseason management provisions in Area 2A have not changed since 2005. These provisions outline the process and circumstances that allow inseason adjustments to be made to the sport halibut fisheries in Area 2A. The flexible inseason management provisions are found at section (f)(5) of the Plan and previously appeared in the annual halibut management measures published in the Federal Register. These provisions would remain in the Plan, but would be moved from the annual halibut management measures into codified regulatory language at 50 CFR part 300, subpart E, beginning in 2006.

Fishery Election in Area 2A

The fishery election process in Area 2A implements the Plan and has not changed since 2005. This section implements the restrictions for participation in the halibut fisheries in Area 2A. The fishery election in Area 2A previously appeared in the annual halibut management measures published in the Federal Register. This section would be moved from the annual halibut management measures into codified regulatory language at 50 CFR part 300, subpart E, beginning in 2006.

Area 2A Non-Treaty Commercial Fishery Closed Areas

Since 2003, large closed areas have applied to commercial vessels operating in the directed non-treaty commercial fishery for halibut in Area 2A. The Area 2A non-treaty commercial fishery closed areas implement the Plan and previously appeared in the annual halibut management measures published in the Federal Register. This section would be moved from the annual halibut management measures into codified regulatory language at 50 CFR part 300, Subpart E, beginning in 2006.

Corrections

50 CFR 300.63 paragraph (b)(3) would be corrected to revise an out of date reference to 50 CFR 660.323 paragraph (a)(2) which has since moved to 50 CFR 660.372. In addition, 50 CFR 300.63 paragraph (b)(3) would be corrected to revise coordinate references for Pt. Chehalis, WA, from degrees minutes seconds to degrees decimal minutes to match coordinate references for Pt. Chehalis, WA, in Federal Pacific Coast groundfish regulations.

Classification

NMFS has prepared an RIR/IRFA and a CE on the proposed changes to the Plan and annual domestic Area 2A halibut management measures. Copies of these documents are available from NMFS (see ADDRESSES).

NMFS prepared an IRFA that describes the economic impact this proposed rule, if adopted, would have on small entities. A description of the action, why it is being considered, and the legal basis for this action are contained at the beginning of this section in the preamble and in the SUMMARY section of the preamble. The IRFA is available from NMFS (see ADDRESSES). A summary of the IRFA follows:

A business involved in fish harvesting is a small business if it is independently owned and operated and not dominant in its field of operation (including its affiliates) and if it has combined annual receipts not in excess of $3.5 million for all its affiliated operations worldwide. A seafood processor is a small business if it is independently owned and operated, not dominant in its field of operation, and employs 500 or fewer persons on a full-time, part-time, temporary, or other basis, at all of its affiliated operations worldwide. A business involved in both the harvesting and processing of seafood products is a small business if it meets the $3.5 million criterion for fish harvesting operations. A wholesale business servicing the fishing industry is a small business if it employs 100 or fewer persons on a full-time, part-time, temporary, or other basis, at all of its affiliated operations worldwide. For marinas and charter/party boats, a small business is one with annual receipts not in excess of $6.0 million. All of the businesses that would be affected by this action are considered small businesses under Small Business Administration guidance.

The proposed changes to the Plan, which allocates the catch of Pacific halibut among users in Washington, Oregon and California, would: decrease the days open per week in the Washington North Coast subarea; specify the opening date for the June fishery in the Washington North Coast subarea as the first Thursday after June 17; revise the Washington South Coast subarea season to reopen the northern nearshore area on Fridays and Saturdays if insufficient quota remains to open the entire subarea for another fishing day; revise the definition of the northern nearshore area in the Washington South Coast subarea; increase the Oregon contribution to the Columbia River subarea allocation by taking it from the Oregon Central Coast subarea allocation; split the Columbia River subarea season into an early and a late season; prohibit retention of groundfish, except sablefish and Pacific cod, when Pacific halibut are onboard the vessel in the Columbia River subarea; allow an increase in the daily bag limit to two fish after Labor Day for the Oregon central coast; increase the Oregon possession limit on land from two daily limits to three daily limits statewide. NMFS proposes to update the tribal season in the Plan to reflect recent IPHC season date-setting trends. NMFS also proposes to implement the portions of the Plan and management measures that are not implemented through the IPHC, which includes the sport fishery management measures for Area 2A, the flexible inseason management provisions in Area 2A, fishery election in Area 2A, and Area 2A non-treaty commercial fishery closed areas. NMFS proposes to codify all but the sport fishery management measures for Area 2A, at 50 CFR part 300, Subpart E. These actions are intended to enhance the conservation of Pacific halibut, to protect yelloweye rockfish and other overfished groundfish species from incidental catch in the halibut fisheries, and to provide greater angler opportunity where available.

For each of the revisions proposed for 2006, the Council recommended a Plan or regulatory revision intended to either improve flexibility for anglers or to ensure consistency between Federal groundfish and halibut regulations. As mentioned in the preamble, WDFW and ODFW held state meetings and crafted alternatives to adjust management of the sport halibut fisheries in their respective states. These alternatives were then narrowed down by the states and brought to the Council at the Council′s September and November meetings. Generally, by the time the alternatives reach the Council, and because they have been through the state public review process, they are narrowed down into the proposed action and status quo. There were no alternatives that could have similarly improved angler enjoyment of and participation in the fisheries while simultaneously protecting halibut and co-occurring groundfish species from overharvest.

Approximately 750 vessels were issued IPHC licenses to retain halibut in 2005. IPHC issues licenses for: the directed commercial fishery in Area 2A, including licenses issued to retain halibut caught incidentally in the primary sablefish fishery (216 licenses in 2005); incidental halibut caught in the salmon troll fishery (392 licenses in 2005); and the charterboat fleet (148 licenses in 2005). No vessel may participate in more than one of these three fisheries per year. Individual recreational anglers and private boats are the only sectors that are not required to have an IPHC license to retain halibut.

Specific data on the economics of halibut charter operations is unavailable. However, in January 2004, the Pacific States Marine Fisheries Commission (Commission) completed a report on the overall West Coast charterboat fleet. In surveying charterboat vessels concerning their operations in 2000, the Commission estimated that there were about 315 charterboat vessels in operation off Washington and Oregon. Compared with the 148 IPHC licenses in 2005, this estimate suggests that approximately 45 percent of the charterboat fleet participates in the halibut fishery. The Commission has developed preliminary estimates of the annual revenues earned by this fleet and they vary by size class of the vessels and home state. Small charterboat vessels range from 15 to 30 ft (4.572 to 9.144 m), and typically carry 5 to 6 passengers. Medium charterboat vessels range from 31 to 49 ft (9.44 to 14.93 m) in length and typically carry 19 to 20 passengers. (Neither state has large vessels of greater than 49 ft (14.93 m) in their fleet.) Average annual revenues from all types of recreational fishing, whalewatching and other activities ranged from $7,000 for small Oregon vessels to $131,000 for medium Washington vessels. These data confirm that charterboat vessels qualify as small entities under the Regulatory Flexibility Act (RFA).

These changes are authorized under the Pacific Halibut Act, implementing regulations at 50 CFR 300.60 - .65, and the Pacific Council process of annually evaluating the utility and effectiveness of Area 2A Pacific halibut management under the Plan. The proposed changes to the Plan and annual domestic Area 2A halibut management measures are expected to result in either no impact at all, or a modest increase in fishing opportunity for commercial and sport halibut fishermen and operators. The proposed sport management measures for 2006 implement the Plan by managing the recreational fishery to meet the differing fishery needs of the various areas along the coast according to the Plan′s objectives. The proposed commercial management measures will allow the fishery access to a portion of the Area 2A TAC while protecting overfished rockfish species that co-occur with halibut. The measures will be very similar to last year′s management measures. The changes to the Plan and domestic management measures are minor changes and are intended to increase flexibility in management and opportunity to harvest available quota. There are no large entities involved in the halibut fisheries; therefore, none of these changes to the Plan and domestic management measures will have a disproportionate negative effect on small entities versus large entities. None of these changes to the Plan will significantly reduce profitability for small entities. In fact, increasing opportunity to harvest available quota and increasing the area available to fishing may increase profitability for some small entities along the West Coast.

These changes do not include any reporting or recordkeeping requirements. These changes will also not duplicate, overlap or conflict with other laws or regulations. Consequently, these changes to the Plan and annual domestic Area 2A halibut management measures are not expected to meet any of the RFA tests of having a “significant” economic impact on a “substantial number” of small entities. Nonetheless, NMFS has prepared an IRFA.

This action has been determined to be not significant for purposes of Executive Order 12866.

Pursuant to Executive Order 13175, the Secretary recognizes the sovereign status and co-manager role of Indian tribes over shared Federal and tribal fishery resources. At section 302(b)(5), the Magnuson-Stevens Fishery Conservation and Management Act establishes a seat on the Pacific Council for a representative of an Indian tribe with federally recognized fishing rights from California, Oregon, Washington, or Idaho.

The U.S. Government formally recognizes that the 12 Washington Tribes have treaty rights to fish for Pacific halibut. In general terms, the quantification of those rights is 50 percent of the harvestable surplus of Pacific halibut available in the tribes′ usual and accustomed (U and A) fishing areas (described at 50 CFR 300.64). Each of the treaty tribes has the discretion to administer their fisheries and to establish their own policies to achieve program objectives. Accordingly, tribal allocations and regulations, including the proposed changes to the Plan, have been developed in consultation with the affected tribe(s) and, insofar as possible, with tribal consensus.

List of Subjects in 50 CFR Part 300

Fishing, Fisheries, and Indian fisheries.

Dated: January 24, 2006.
William T. Hogarth,
Assistant Administrator for Fisheries, National Marine Fisheries Service.

For the reasons set out in the preamble, 50 CFR part 300 is proposed to be amended as follows:

PART 300—INTERNATIONAL FISHERIES REGULATIONS

1. The authority citation for part 300 continues to read as follows:

Authority: 16 U.S.C. 773 et seq.; 16 U.S.C. 951-961 and 971 et seq.; 16 U.S.C. 973-973r; 16 U.S.C. 2431 et seq.; 16 U.S.C. 3371-3378; 16 U.S.C. 3636(b); 16 U.S.C. 5501 et seq.; and 16 U.S.C. 1801 et seq.

2. In § 300.63, paragraph (b)(3) is revised, and paragraphs (c) through (g) are added to read as follows:

§ 300.63 Catch sharing plan and domestic management measures in Area 2A.

* * * * *

(b) * * *

(3) A portion of the Area 2A Washington recreational TAC is allocated as incidental catch in the primary directed longline sablefish fishery north of 46°53.30′ N. lat, (Pt. Chehalis, WA), which is regulated under 50 CFR 660.372. This fishing opportunity is only available in years in which the Area 2A TAC is greater than 900,000 lb (408.2 mt,) provided that a minimum of 10,000 lb (4.5 mt) is available above a Washington recreational TAC of 214,100 lb (97.1 mt). Each year that this harvest is available, the landing restrictions necessary to keep this fishery within its allocation will be recommended by the Pacific Fishery Management Council at its spring meetings, and will be published in the Federal Register. These restrictions will be designed to ensure the halibut harvest is incidental to the sablefish harvest and will be based on the amounts of halibut and sablefish available to this fishery, and other pertinent factors. The restrictions may include catch or landing ratios, landing limits, or other means to control the rate of halibut landings.

(i) In years when this incidental harvest of halibut in the directed sablefish fishery north of 46°53.30′ N. lat. is allowed, it is allowed only for vessels using longline gear that are registered to groundfish limited entry permits with sablefish endorsements and that possess the appropriate incidental halibut harvest license issued by the Commission.

(ii) It is unlawful for any person to possess, land or purchase halibut south of 46°53.30′ N. lat. that were taken and retained as incidental catch authorized by this section in the directed longline sablefish fishery.

* * * * *

(c) Flexible Inseason Management Provisions for Sport Halibut Fisheries in Area 2A.

(1) The Regional Administrator, NMFS Northwest Region, after consultation with the Chairman of the Pacific Fishery Management Council, the Commission Executive Director, and the Fisheries Director(s) of the affected state(s), or their designees, is authorized to modify regulations during the season after making the following determinations:

(i) The action is necessary to allow allocation objectives to be met.

(ii) The action will not result in exceeding the catch limit for the area.

(iii) If any of the sport fishery subareas north of Cape Falcon, OR are not projected to utilize their respective quotas by September 30, NMFS may take inseason action to transfer any projected unused quota to another Washington sport subarea.

(iv) If any of the sport fishery subareas south of Leadbetter Point, WA are not projected to utilize their respective quotas by their season ending dates, NMFS may take inseason action to transfer any projected unused quota to another Oregon sport subarea.

(2) Flexible inseason management provisions include, but are not limited to, the following:

(i) Modification of sport fishing periods;

(ii) Modification of sport fishing bag limits;

(iii) Modification of sport fishing size limits;

(iv) Modification of sport fishing days per calendar week; and

(v) Modification of subarea quotas north of Cape Falcon, OR.

(3) Notice procedures.

(i) Actions taken under this section will be published in the Federal Register.

(ii) Actual notice of inseason management actions will be provided by a telephone hotline administered by the Northwest Region, NMFS, at 206-526-6667 or 800-662-9825 (May through October) and by U.S. Coast Guard broadcasts. These broadcasts are announced on Channel 16 VHF-FM and 2182 kHz at frequent intervals. The announcements designate the channel or frequency over which the notice to mariners will be immediately broadcast. Since provisions of these regulations may be altered by inseason actions, sport fishers should monitor either the telephone hotline or U.S. Coast Guard broadcasts for current information for the area in which they are fishing.

(4) Effective dates.

(i) Any action issued under this section is effective on the date specified in the publication or at the time that the action is filed for public inspection with the Office of the Federal Register, whichever is later.

(ii) If time allows, NMFS will invite public comment prior to the effective date of any inseason action filed with the Federal Register. If the Regional Administrator determines, for good cause, that an inseason action must be filed without affording a prior opportunity for public comment, public comments will be received for a period of 15 days after publication of the action in the Federal Register.

(iii) Any inseason action issued under this section will remain in effect until the stated expiration date or until rescinded, modified, or superseded. However, no inseason action has any effect beyond the end of the calendar year in which it is issued.

(5) Availability of data. The Regional Administrator will compile, in aggregate form, all data and other information relevant to the action being taken and will make them available for public review during normal office hours at the Northwest Regional Office, NMFS, Sustainable Fisheries Division, 7600 Sand Point Way NE., Seattle, WA.

(d) Fishery Election in Area 2A.

(1) A vessel that fishes in Area 2A may participate in only one of the following three fisheries in Area 2A:

(i) The sport fishery under Section 24 of the annual domestic management measures and IPHC regulations;

(ii) The commercial directed fishery for halibut during the fishing period(s) established in Section 8 of the annual domestic management measures and IPHC regulations and/or the incidental retention of halibut during the primary sablefish fishery described at 50 CFR 660.372; or

(iii) The incidental catch fishery during the salmon troll fishery as authorized in Section 8 of the annual domestic management measures and IPHC regulations.

(2) No person shall fish for halibut in the sport fishery in Area 2A under Section 24 of the annual domestic management measures and IPHC regulations from a vessel that has been used during the same calendar year for commercial halibut fishing in Area 2A or that has been issued a permit for the same calendar year for the commercial halibut fishery in Area 2A.

(3) No person shall fish for halibut in the directed commercial halibut fishery during the fishing periods established in Section 8 of the annual domestic management measures and IPHC regulations and/or retain halibut incidentally taken in the primary sablefish fishery in Area 2A from a vessel that has been used during the same calendar year for the incidental catch fishery during the salmon troll fishery as authorized in Section 8 of the annual domestic management measures and IPHC regulations.

(4) No person shall fish for halibut in the directed commercial halibut fishery and/or retain halibut incidentally taken in the primary sablefish fishery in Area 2A from a vessel that, during the same calendar year, has been used in the sport halibut fishery in Area 2A or that is licensed for the sport charter halibut fishery in Area 2A.

(5) No person shall retain halibut in the salmon troll fishery in Area 2A as authorized under section 8 of the annual domestic management measures and IPHC regulations taken on a vessel that, during the same calendar year, has been used in the sport halibut fishery in Area 2A, or that is licensed for the sport charter halibut fishery in Area 2A.

(6) No person shall retain halibut in the salmon troll fishery in Area 2A as authorized under section 8 of the annual domestic management measures and IPHC regulations taken on a vessel that, during the same calendar year, has been used in the directed commercial halibut fishery during the fishing periods established in Section 8 of the annual domestic management measures and IPHC regulations and/or retained halibut incidentally taken in the primary sablefish fishery for Area 2A or that is licensed to participate in these commercial fisheries during the fishing periods established in Section 8 of the annual domestic management measures and IPHC regulations in Area 2A.

(e) Area 2A Non-Treaty Commercial Fishery Closed Areas. Non-treaty commercial vessels operating in the directed commercial fishery for halibut in Area 2A are required to fish outside of a closed area, known as the Rockfish Conservation Area (RCA), that extends along the coast from the U.S./Canada border south to 40°10′ N. lat. Between the U.S./Canada border and 46°16′ N. lat., the eastern boundary of the RCA is the shoreline. Between 46°16′ N. lat. and 40°10′ N. lat., the RCA is defined along an eastern boundary approximating the 30-fm (55-m) depth contour. Coordinates for the 30-fm (55-m) boundary are listed at § 300.63 (f). Between the U.S./Canada border and 40°10′ N. lat., the RCA is defined along a western boundary approximating the 100-fm (183-m) depth contour. Coordinates for the 100-fm (183-m) boundary are listed at § 300.63 (g).

(f) The 30-fm (55-m) depth contour between 46°16′ N. lat. and 40°10′ N. lat. is defined by straight lines connecting all of the following points in the order stated:

(1) 46°16.00′ N. lat., 124°13.05′ W. long.;

(2) 46°07.00′ N. lat., 124°07.01′ W. long.;

(3) 45°55.95′ N. lat., 124°02.23′ W. long.;

(4) 45°54.53′ N. lat., 124°02.57′ W. long.;

(5) 45°50.65′ N. lat., 124°01.62′ W. long.;

(6) 45°48.20′ N. lat., 124°02.16′ W. long.;

(7) 45°46.00′ N. lat., 124°01.86′ W. long.;

(8) 45°43.47′ N. lat., 124°01.28′ W. long.;

(9) 45°40.48′ N. lat., 124°01.03′ W. long.;

(10) 45°39.04′ N. lat., 124°01.68′ W. long.;

(11) 45°35.48′ N. lat., 124°01.89′ W. long.;

(12) 45°29.81′ N. lat., 124°02.45′ W. long.;

(13) 45°27.96′ N. lat., 124°01.89′ W. long.;

(14) 45°27.22′ N. lat., 124°02.67′ W. long.;

(15) 45°24.20′ N. lat., 124°02.94′ W. long.;

(16) 45°20.60′ N. lat., 124°01.74′ W. long.;

(17) 45°20.25′ N. lat., 124°01.85′ W. long.;

(18) 45°16.44′ N. lat., 124°03.22′ W. long.;

(19) 45°13.63′ N. lat., 124°02.70′ W. long.;

(20) 45°11.04′ N. lat., 124°03.59′ W. long.;

(21) 45°08.55′ N. lat., 124°03.47′ W. long.;

(22) 45°02.82′ N. lat., 124°04.64′ W. long.;

(23) 45°03.38′ N. lat., 124°04.79′ W. long.;

(24) 44°58.06′ N. lat., 124°05.03′ W. long.;

(25) 44°53.97′ N. lat., 124°06.92′ W. long.;

(26) 44°48.89′ N. lat., 124°07.04′ W. long.;

(27) 44°46.94′ N. lat., 124°08.25′ W. long.;

(28) 44°42.72′ N. lat., 124°08.98′ W. long.;

(29) 44°38.16′ N. lat., 124°11.48′ W. long.;

(30) 44°33.38′ N. lat., 124°11.54′ W. long.;

(31) 44°28.51′ N. lat., 124°12.03′ W. long.;

(32) 44°27.65′ N. lat., 124°12.56′ W. long.;

(33) 44°19.67′ N. lat., 124°12.37′ W. long.;

(34) 44°10.79′ N. lat., 124°12.22′ W. long.;

(35) 44°09.22′ N. lat., 124°12.28′ W. long.;

(36) 44°08.30′ N. lat., 124°12.30′ W. long.;

(37) 44°00.22′ N. lat., 124°12.80′ W. long.;

(38) 43°51.56′ N. lat., 124°13.17′ W. long.;

(39) 43°44.26′ N. lat., 124°14.50′ W. long.;

(40) 43°33.82′ N. lat., 124°16.28′ W. long.;

(41) 43°28.66′ N. lat., 124°18.72′ W. long.;

(42) 43°23.12′ N. lat., 124°24.04′ W. long.;

(43) 43°20.83′ N. lat., 124°25.67′ W. long.;

(44) 43°20.49′ N. lat., 124°25.90′ W. long.;

(45) 43°16.41′ N. lat., 124°27.52′ W. long.;

(46) 43°14.23′ N. lat., 124°29.28′ W. long.;

(47) 43°14.03′ N. lat., 124°28.31′ W. long.;

(48) 43°11.92′ N. lat., 124°28.26′ W. long.;

(49) 43°11.02′ N. lat., 124°29.11′ W. long.;

(50) 43°10.13′ N. lat., 124°29.15′ W. long.;

(51) 43°09.27′ N. lat., 124°31.03′ W. long.;

(52) 43°07.73′ N. lat., 124°30.92′ W. long.;

(53) 43°05.93′ N. lat., 124°29.64′ W. long.;

(54) 43°01.59′ N. lat., 124°30.64′ W. long.;

(55) 42°59.73′ N. lat., 124°31.16′ W. long.;

(56) 42°53.75′ N. lat., 124°36.09′ W. long.;

(57) 42°50.00′ N. lat., 124°38.39′ W. long.;

(58) 42°49.37′ N. lat., 124°38.81′ W. long.;

(59) 42°46.42′ N. lat., 124°37.69′ W. long.;

(60) 42°46.07′ N. lat., 124°38.56′ W. long.;

(61) 42°45.29′ N. lat., 124°37.95′ W. long.;

(62) 42°45.61′ N. lat., 124°36.87′ W. long.;

(63) 42°44.28′ N. lat., 124°33.64′ W. long.;

(64) 42°42.75′ N. lat., 124°31.84′ W. long.;

(65) 42°40.50′ N. lat., 124°29.67′ W. long.;

(66) 42°40.04′ N. lat., 124°29.19′ W. long.;

(67) 42°38.09′ N. lat., 124°28.39′ W. long.;

(68) 42°36.72′ N. lat., 124°27.54′ W. long.;

(69) 42°36.56′ N. lat., 124°28.40′ W. long.;

(70) 42°35.76′ N. lat., 124°28.79′ W. long.;

(71) 42°34.03′ N. lat., 124°29.98′ W. long.;

(72) 42°34.19′ N. lat., 124°30.58′ W. long.;

(73) 42°31.27′ N. lat., 124°32.24′ W. long.;

(74) 42°27.07′ N. lat., 124°32.53′ W. long.;

(75) 42°24.21′ N. lat., 124°31.23′ W. long.;

(76) 42°20.47′ N. lat., 124°28.87′ W. long.;

(77) 42°14.60′ N. lat., 124°26.80′ W. long.;

(78) 42°13.67′ N. lat., 124°26.25′ W. long.;

(79) 42°10.90′ N. lat., 124°24.57′ W. long.;

(80) 42°07.04′ N. lat., 124°23.35′ W. long.;

(81) 42°02.16′ N. lat., 124°22.59′ W. long.;

(82) 42°00.00′ N. lat., 124°21.81′ W. long.;

(83) 41°55.75′ N. lat., 124°20.72′ W. long.;

(84) 41°50.93′ N. lat., 124°23.76′ W. long.;

(85) 41°42.53′ N. lat., 124°16.47′ W. long.;

(86) 41°37.20′ N. lat., 124°17.05′ W. long.;

(87) 41°24.58′ N. lat., 124°10.51′ W. long.;

(88) 41°20.73′ N. lat., 124°11.73′ W. long.;

(89) 41°17.59′ N. lat., 124°10.66′ W. long.;

(90) 41°04.54′ N. lat., 124°14.47′ W. long.;

(91) 40°54.26′ N. lat., 124°13.90′ W. long.;

(92) 40°40.31′ N. lat., 124°26.24′ W. long.;

(93) 40°34.00′ N. lat., 124°27.39′ W. long.;

(94) 40°30.00′ N. lat., 124°31.32′ W. long.;

(95) 40°28.89′ N. lat., 124°32.43′ W. long.;

(96) 40°24.77′ N. lat., 124°29.51′ W. long.;

(97) 40°22.47′ N. lat., 124°24.12′ W. long.;

(98) 40°19.73′ N. lat., 124°23.59′ W. long.;

(99) 40°18.64′ N. lat., 124°21.89′ W. long.;

(100) 40°17.67′ N. lat., 124°23.07′ W. long.;

(101) 40°15.58′ N. lat., 124°23.61′ W. long.;

(102) 40°13.42′ N. lat., 124°22.94′ W. long.; and

(103) 40°10.00′ N. lat., 124°16.65′ W. long.

(g) The 100-fm (183-m) depth contour between the U.S./Canada border and 40°10′ N. lat. is defined by straight lines connecting all of the following points in the order stated:

(1) 48°15.00′ N. lat., 125°41.00′ W. long.;

(2) 48°14.00′ N. lat., 125°36.00′ W. long.;

(3) 48°09.50′ N. lat., 125°40.50′ W. long.;

(4) 48°08.00′ N. lat., 125°38.00′ W. long.;

(5) 48°05.00′ N. lat., 125°37.25′ W. long.;

(6) 48°02.60′ N. lat., 125°34.70′ W. long.;

(7) 47°59.00′ N. lat., 125°34.00′ W. long.;

(8) 47°57.26′ N. lat., 125°29.82′ W. long.;

(9) 47°59.87′ N. lat., 125°25.81′ W. long.;

(10) 48°01.80′ N. lat., 125°24.53′ W. long.;

(11) 48°02.08′ N. lat., 125°22.98′ W. long.;

(12) 48°02.97′ N. lat., 125°22.89′ W. long.;

(13) 48°04.47′ N. lat., 125°21.75′ W. long.;

(14) 48°06.11′ N. lat., 125°19.33′ W. long.;

(15) 48°07.95′ N. lat., 125°18.55′ W. long.;

(16) 48°09.00′ N. lat., 125°18.00′ W. long.;

(17) 48°11.31′ N. lat., 125°17.55′ W. long.;

(18) 48°14.60′ N. lat., 125°13.46′ W. long.;

(19) 48°16.67′ N. lat., 125°14.34′ W. long.;

(20) 48°18.73′ N. lat., 125°14.41′ W. long.;

(21) 48°19.67′ N. lat., 125°13.70′ W. long.;

(22) 48°19.70′ N. lat., 125°11.13′ W. long.;

(23) 48°22.95′ N. lat., 125°10.79′ W. long.;

(24) 48°21.61′ N. lat., 125°02.54′ W. long.;

(25) 48°23.00′ N. lat., 124°49.34′ W. long.;

(26) 48°17.00′ N. lat., 124°56.50′ W. long.;

(27) 48°06.00′ N. lat., 125°00.00′ W. long.;

(28) 48°04.62′ N. lat., 125°01.73′ W. long.;

(29) 48°04.84′ N. lat., 125°04.03′ W. long.;

(30) 48°06.41′ N. lat., 125°06.51′ W. long.;

(31) 48°06.00′ N. lat., 125°08.00′ W. long.;

(32) 48°07.08′ N. lat., 125°09.34′ W. long.;

(33) 48°07.28′ N. lat., 125°11.14′ W. long.;

(34) 48°03.45′ N. lat., 125°16.66′ W. long.;

(35) 47°59.50′ N. lat., 125°18.88′ W. long.;

(36) 47°58.68′ N. lat., 125°16.19′ W. long.;

(37) 47°56.62′ N. lat., 125°13.50′ W. long.;

(38) 47°53.71′ N. lat., 125°11.96′ W. long.;

(39) 47°51.70′ N. lat., 125°09.38′ W. long.;

(40) 47°49.95′ N. lat., 125°06.07′ W. long.;

(41) 47°49.00′ N. lat., 125°03.00′ W. long.;

(42) 47°46.95′ N. lat., 125°04.00′ W. long.;

(43) 47°46.58′ N. lat., 125°03.15′ W. long.;

(44) 47°44.07′ N. lat., 125°04.28′ W. long.;

(45) 47°43.32′ N. lat., 125°04.41′ W. long.;

(46) 47°40.95′ N. lat., 125°04.14′ W. long.;

(47) 47°39.58′ N. lat., 125°04.97′ W. long.;

(48) 47°36.23′ N. lat., 125°02.77′ W. long.;

(49) 47°34.28′ N. lat., 124°58.66′ W. long.;

(50) 47°32.17′ N. lat., 124°57.77′ W. long.;

(51) 47°30.27′ N. lat., 124°56.16′ W. long.;

(52) 47°30.60′ N. lat., 124°54.80′ W. long.;

(53) 47°29.26′ N. lat., 124°52.21′ W. long.;

(54) 47°28.21′ N. lat., 124°50.65′ W. long.;

(55) 47°27.38′ N. lat., 124°49.34′ W. long.;

(56) 47°25.61′ N. lat., 124°48.26′ W. long.;

(57) 47°23.54′ N. lat., 124°46.42′ W. long.;

(58) 47°20.64′ N. lat., 124°45.91′ W. long.;

(59) 47°17.99′ N. lat., 124°45.59′ W. long.;

(60) 47°18.20′ N. lat., 124°49.12′ W. long.;

(61) 47°15.01′ N. lat., 124°51.09′ W. long.;

(62) 47°12.61′ N. lat., 124°54.89′ W. long.;

(63) 47°08.22′ N. lat., 124°56.53′ W. long.;

(64) 47°08.50′ N. lat., 124°57.74′ W. long.;

(65) 47°01.92′ N. lat., 124°54.95′ W. long.;

(66) 47°01.14′ N. lat., 124°59.35′ W. long.;

(67) 46°58.48′ N. lat., 124°57.81′ W. long.;

(68) 46°56.79′ N. lat., 124°56.03′ W. long.;

(69) 46°58.01′ N. lat., 124°55.09′ W. long.;

(70) 46°55.07′ N. lat., 124°54.14′ W. long.;

(71) 46°59.60′ N. lat., 124°49.79′ W. long.;

(72) 46°58.72′ N. lat., 124°48.78′ W. long.;

(73) 46°54.45′ N. lat., 124°48.36′ W. long.;

(74) 46°53.99′ N. lat., 124°49.95′ W. long.;

(75) 46°54.38′ N. lat., 124°52.73′ W. long.;

(76) 46°52.38′ N. lat., 124°52.02′ W. long.;

(77) 46°48.93′ N. lat., 124°49.17′ W. long.;

(78) 46°41.50′ N. lat., 124°43.00′ W. long.;

(79) 46°34.50′ N. lat., 124°28.50′ W. long.;

(80) 46°29.00′ N. lat., 124°30.00′ W. long.;

(81) 46°20.00′ N. lat., 124°36.50′ W. long.;

(82) 46°18.00′ N. lat., 124°38.00′ W. long.;

(83) 46°17.52′ N. lat., 124°35.35′ W. long.;

(84) 46°17.00′ N. lat., 124°22.50′ W. long.;

(85) 46°16.00′ N. lat., 124°20.62′ W. long.;

(86) 46°13.52′ N. lat., 124°25.49′ W. long.;

(87) 46°12.17′ N. lat., 124°30.75′ W. long.;

(88) 46°10.63′ N. lat., 124°37.95′ W. long.;

(89) 46°09.29′ N. lat., 124°39.01′ W. long.;

(90) 46°02.40′ N. lat., 124°40.37′ W. long.;

(91) 45°56.45′ N. lat., 124°38.00′ W. long.;

(92) 45°51.92′ N. lat., 124°38.49′ W. long.;

(93) 45°47.19′ N. lat., 124°35.58′ W. long.;

(94) 45°46.41′ N. lat., 124°32.36′ W. long.;

(95) 45°46.00′ N. lat., 124°32.10′ W. long.;

(96) 45°41.75′ N. lat., 124°28.12′ W. long.;

(97) 45°36.96′ N. lat., 124°24.48′ W. long.;

(98) 45°31.84′ N. lat., 124°22.04′ W. long.;

(99) 45°27.10′ N. lat., 124°21.74′ W. long.;

(100) 45°20.25′ N. lat., 124°18.54′ W. long.;

(101) 45°18.14′ N. lat., 124°17.59′ W. long.;

(102) 45°11.08′ N. lat., 124°16.97′ W. long.;

(103) 45°04.38′ N. lat., 124°18.36′ W. long.;

(104) 45°03.83′ N. lat., 124°18.60′ W. long.;

(105) 44°58.05′ N. lat., 124°21.58′ W. long.;

(106) 44°47.67′ N. lat., 124°31.41′ W. long.;

(107) 44°44.55′ N. lat., 124°33.58′ W. long.;

(108) 44°39.88′ N. lat., 124°35.01′ W. long.;

(109) 44°32.90′ N. lat., 124°36.81′ W. long.;

(110) 44°30.33′ N. lat., 124°38.56′ W. long.;

(111) 44°30.04′ N. lat., 124°42.31′ W. long.;

(112) 44°26.84′ N. lat., 124°44.91′ W. long.;

(113) 44°17.99′ N. lat., 124°51.03′ W. long.;

(114) 44°13.68′ N. lat., 124°56.38′ W. long.;

(115) 44°08.30′ N. lat., 124°55.99′ W. long.;

(116) 43°56.67′ N. lat., 124°55.45′ W. long.;

(117) 43°56.47′ N. lat., 124°34.61′ W. long.;

(118) 43°42.73′ N. lat., 124°32.41′ W. long.;

(119) 43°30.93′ N. lat., 124°34.43′ W. long.;

(120) 43°20.83′ N. lat., 124°39.39′ W. long.;

(121) 43°17.45′ N. lat., 124°41.16′ W. long.;

(122) 43°07.04′ N. lat., 124°41.25′ W. long.;

(123) 43°03.45′ N. lat., 124°44.36′ W. long.;

(124) 43°03.90′ N. lat., 124°50.81′ W. long.;

(125) 42°55.70′ N. lat., 124°52.79′ W. long.;

(126) 42°54.12′ N. lat., 124°47.36′ W. long.;

(127) 42°50.00′ N. lat., 124°45.33′ W. long.;

(128) 42°44.00′ N. lat., 124°42.38′ W. long.;

(129) 42°40.50′ N. lat., 124°41.71′ W. long.;

(130) 42°38.23′ N. lat., 124°41.25′ W. long.;

(131) 42°33.03′ N. lat., 124°42.38′ W. long.;

(132) 42°31.89′ N. lat., 124°42.04′ W. long.;

(133) 42°30.09′ N. lat., 124°42.67′ W. long.;

(134) 42°28.28′ N. lat., 124°47.08′ W. long.;

(135) 42°25.22′ N. lat., 124°43.51′ W. long.;

(136) 42°19.23′ N. lat., 124°37.92′ W. long.;

(137) 42°16.29′ N. lat., 124°36.11′ W. long.;

(138) 42°13.67′ N. lat., 124°35.81′ W. long.;

(139) 42°05.66′ N. lat., 124°34.92′ W. long.;

(140) 42°00.00′ N. lat., 124°35.27′ W. long.;

(141) 41°47.04′ N. lat., 124°27.64′ W. long.;

(142) 41°32.92′ N. lat., 124°28.79′ W. long.;

(143) 41°24.17′ N. lat., 124°28.46′ W. long.;

(144) 41°10.12′ N. lat., 124°20.50′ W. long.;

(145) 40°51.41′ N. lat., 124°24.38′ W. long.;

(146) 40°43.71′ N. lat., 124°29.89′ W. long.;

(147) 40°40.14′ N. lat., 124°30.90′ W. long.;

(148) 40°37.35′ N. lat., 124°29.05′ W. long.;

(149) 40°34.76′ N. lat., 124°29.82′ W. long.;

(150) 40°36.78′ N. lat., 124°37.06′ W. long.;

(151) 40°32.44′ N. lat., 124°39.58′ W. long.;

(152) 40°30.00′ N. lat., 124°38.13′ W. long.;

(153) 40°24.82′ N. lat., 124°35.12′ W. long.;

(154) 40°23.30′ N. lat., 124°31.60′ W. long.;

(155) 40°23.52′ N. lat., 124°28.78′ W. long.;

(156) 40°22.43′ N. lat., 124°25.00′ W. long.;

(157) 40°21.72′ N. lat., 124°24.94′ W. long.;

(158) 40°21.87′ N. lat., 124°27.96′ W. long.;

(159) 40°21.40′ N. lat., 124°28.74′ W. long.;

(160) 40°19.68′ N. lat., 124°28.49′ W. long.;

(161) 40°17.73′ N. lat., 124°25.43′ W. long.;

(162) 40°18.37′ N. lat., 124°23.35′ W. long.;

(163) 40°15.75′ N. lat., 124°26.05′ W. long.;

(164) 40°16.75′ N. lat., 124°33.71′ W. long.;

(165) 40°16.29′ N. lat., 124°34.36′ W. long.; and

(166) 40°10.00′ N. lat., 124°21.12′ W. long.

[FR Doc. E6-1113 Filed 1-27-06; 8:45 am]

BILLING CODE 3510-22-S